DEPARTMENT OF VETERANS AFFAIRS

Public Availability of the Department of Veterans Affairs Fiscal Year (FY) 2011 Service Contract Inventory

AGENCY: Department of Veterans Affairs.

ACTION: Notice of Public Availability of FY 2011 Service Contract Inventories.

SUMMARY: In accordance with Section 743 of Division C of the Consolidated Appropriations Act of 2010 (Public Law 111-117), Department of Veterans Affairs (VA) is publishing this notice to advise the public of the availability of the FY 2011 Service Contract Inventory. The inventory provides information on VA service contract actions over $25,000 made in FY 2011. The information is organized by function to show how contracted resources are distributed throughout the agency. The inventory has been developed in accordance with guidance issued on November 5, 2010, and updated on December 19, 2011, by the Office of Management and Budget's Office of Federal Procurement Policy (OFPP). OFPP's guidance is available at http://www.whitehouse.gov/sites/default/files/omb/procurement/memo/service-contract-inventory-guidance.pdf. VA posted its inventory and a summary of the inventory on the VA Web site at: http://www.va.gov/oal/library/scaInventory.asp.

FOR FURTHER INFORMATION CONTACT: Questions regarding the service contract inventory should be directed to Marilyn Harris, Director, Procurement Policy and Warrant Management Service, in the Office of Acquisition, Logistics, and Construction at (202) 461-6918, or email: marilyn.harris2@va.gov.

Approved: March 6, 2012.
John R. Gingrich,
Chief of Staff Department of Veterans Affairs.

[FR Doc. 2012-5927 Filed 3-9-12; 8:45 am]

BILLING CODE 8320-01-P